DEPARTMENT OF THE INTERIOR

[WY-100-2008-1310-NB]

Pinedale Anticline Working Group and Task Groups—Notice of Renewal

AGENCY: Bureau of Land Management, Interior.

ACTION: Notice of Renewal of the Pinedale Anticline Working Group and Task Groups.

SUMMARY: This notice is published in accordance with Section 9(a)(2) of the Federal Advisory Committee Act of 1972 (Public Law 92-463). Following consultation with the General Services Administration, notice is hereby given that the Secretary of the Interior has renewed the Pinedale Anticline Working Group and Task Groups (PAWG). The purpose of the Working Group and Task Groups will be to advise the Bureau of Land Management, Pinedale Field Office Manager, regarding recommendations on matters pertinent to the Bureau of Land Management's responsibilities related to the Pinedale Anticline Environmental Impact Statement and Record of Decision.

FOR FURTHER INFORMATION CONTACT: Ms. Lauren McKeever, Pinedale Anticline Working Group and Task Groups Coordinator, Bureau of Land Management, Pinedale Field Office, 1625 West Pine Street, Pinedale, Wyoming 82941, Phone: (307) 367-5352.

Certification

I hereby certify that the renewal of the Pinedale Anticline Working Group and Task Groups is necessary and in the public interest in connection with the Secretary of the Interior's responsibilities to manage the lands, resources, and facilities administered by the Bureau of Land Management.

Dated: June 25, 2008.
Dirk Kempthorne,
Secretary of the Interior.

[FR Doc. E8-15176 Filed 7-2-08; 8:45 am]

BILLING CODE 4310-22-P